DEPARTMENT OF THE INTERIOR

Fish and Wildlife Service

50 CFR Part 20

[FWS-R9-MB-2008-0124; 91200-1231-9BPP-L2]

RIN 1018-AW31

Migratory Bird Hunting; Late Seasons and Bag and Possession Limits for Certain Migratory Game Birds

Correction

In rule document E9-22874 beginning on page 49244 in the issue of Friday, September 25, 2009 make the following corrections:

On pages 49247, 49253 through 49276, 49280, and 49281, the incorrect graphics published. These graphics are being reprinted to read as set forth below:

BILLING CODE 1301-00-C

[FR Doc. Z9-22874 Filed 12-23-09; 8:45 am]

BILLING CODE 1301-00-D